DEPARTMENT OF HOMELAND SECURITY

Federal Emergency Management Agency

[Docket ID: FEMA-2022-0041 OMB No. 1660-0100]

Agency Information Collection Activities: Proposed Collection; Comment Request; General Admissions Applications (Long and Short) and Stipend Forms

AGENCY: Federal Emergency Management Agency, Department of Homeland Security.

ACTION: 60-Day notice of revision and request for comments.

SUMMARY: The Federal Emergency Management Agency (FEMA), as part of its continuing effort to reduce paperwork and respondent burden, invites the general public to take this opportunity to comment on an extension, with change, of a currently approved information collection. In accordance with the Paperwork Reduction Act of 1995, this notice seeks comments concerning the admission applications and student stipend agreements for FEMA courses and programs that are delivered on-campus and throughout the Nation, in coordination with state and local training officials and local colleges and universities.

DATES: Comments must be submitted on or before January 24, 2023.

ADDRESSES: Please submit comments at www.regulations.gov under Docket ID FEMA-2022-0041. Follow the instructions for submitting comments.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Smiley White, Supervisory Program Specialist, United States Fire Administration, at Smiley.White@fema.dhs.gov or 301-447-1055. You may contact the Information Management Division for copies of the proposed collection of information at email address: FEMA-Information-Collections-Management@fema.dhs.gov.

SUPPLEMENTARY INFORMATION: FEMA offers courses and programs that are delivered at National Emergency Training Center (NETC) in Emmitsburg, Maryland, the Center for Domestic Preparedness (CDP) in Anniston, Alabama, and throughout the Nation in coordination with state and local training officials and local colleges and universities to carry out the authorities listed below. To facilitate meeting these requirements, FEMA collects information necessary to be accepted for courses and for the student stipend or travel reimbursement program for these courses. There are several organizations within FEMA that deliver training and education in support of the FEMA mission.

1. Section 7 of Public Law 93-498, the Federal Fire Prevention and Control Act, as amended, 15 U.S.C. 2206, established the National Fire Academy (NFA) to advance the professional development of fire service personnel and of other persons engaged in fire prevention and control activities.

2. Section 611(f) of Public Law 93-288, the Robert T. Stafford Disaster Relief and Emergency Assistance Act (Stafford Act), as amended, 42 U.S.C. 5196(f), authorizes FEMA to conduct or arrange, by contract or otherwise, training programs for the instruction of emergency preparedness officials and other persons in the organization, operation, and techniques of emergency preparedness; conduct or operate schools or classes, including the payment of travel expenses and per diem allowances for these purposes, in lieu of subsistence for trainees in attendance or the furnishing of subsistence and quarters for trainees and instructors on terms prescribed by the Director; and provide instructors and training aids as deemed necessary. This training is conducted through the Emergency Management Institute (EMI).

3. Title XIV of the National Defense Authorization Act of 1997, Public Law 104-201, 110 Stat. 2432; Title I of the Departments of Commerce, Justice, and State, the Judiciary, and Related Agencies Appropriations Act of 1998, Public Law 105-119, 111 Stat. 2440; Sections 403 and 430 of the Homeland Security Act of 2002, Public Law 107-296, 116 Stat. 2135; and Section 611 of the Post-Katrina Emergency Management Reform Act of 2006, Public Law 109-295, 120 Stat. 1355, all authorize CDP to serve as a training facility for all relevant Federally supported training efforts that target state and local law enforcement, firefighters, emergency medical personnel, and other key agencies such as public works and state and local emergency management. The focus of the training is to prepare relevant state and local officials to deal with chemical, biological, or nuclear terrorist acts and handle incidents dealing with hazardous materials.

4. Public Law 110-53, the Implementing Recommendations of the 9/11 Commission Act of 2007, 6 U.S.C. 1102, established a National Domestic Preparedness Consortium within the Department of Homeland Security. The Consortium is mandated to identify, test, and deliver training to state, local, and tribal emergency response providers, provide on-site and mobile training at the performance, management, and planning levels, and facilitate the delivery of training by the training partners of the Department.

5. US Code Title I, consistent with requirements under Occupational Safety and Health Administration (OSHA) Appendix C Respirator Medical Evaluation Questionnaire (29 CFR 1910.134, Respiratory Protection), in any workplace where respirators are necessary to protect the health of the employee or whenever respirators are required by the employer, the employer shall establish and implement a written respiratory protection program with worksite-specific procedures. The program shall be updated as necessary to reflect those changes in workplace conditions that affect respirator use. The employer shall include in the program the following provisions of this section, as applicable: 1910.134(c)(1)(ii) Medical evaluations of employees required to use respirators.

FEMA is revising this collection to add a new instrument, FEMA Form FF-008-FY-22-125, Respiratory Medical Evaluation Questionnaire For Students, to comply with OSHA's requirements under 29 CFR 1910.134.

Collection of Information

Title: General Admissions Applications (Long and Short) and Stipend Forms.

Type of Information Collection: Revision of a currently approved information collection.

OMB Number: 1660-0100.

FEMA Forms: FEMA Form FF-USFA-FY-21-101 (formerly 119-25-0-1), General Admissions Application; FEMA Form FF-USFA-FY-21-102 (formerly 119-25-0-6), Training Registration Form; FEMA Form FF-USFA-FY-21-103 (formerly 119-25-3), Student Stipend Agreement; FEMA Form FF-USFA-FY-21-104 (formerly 119-25-4), Student Stipend Agreement (Amendment); FEMA Form FF-USFA-FY-21-105 (formerly 119-25-5), National Fire Academy Executive Fire Officer Program Application Admission; and FEMA Form FF-008-FY-22-125, Respiratory Medical Evaluation Questionnaire For Students.

Abstract: FEMA provides training to advance the professional development of personnel engaged in fire prevention and control and emergency management activities through CDP, Emergency Management Institute, NFA, National Training and Education Division, National Domestic Preparedness Consortium, and Rural Domestic Preparedness Consortium.

Affected Public: Business or other for-profit, not-for-profit institutions, Federal Government, and State, Local or Tribal Government.

Number of Respondents: 223,300.

Number of Responses: 223,300.

Estimated Total Annual Burden Hours: 21,644.

Estimated Total Annual Respondent Cost: $1,204,641.

Estimated Respondents' Operation and Maintenance Costs: $0.

Estimated Respondents' Capital and Start-Up Costs: $0.

Estimated Total Annual Cost to the Federal Government: $238,912.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2022-25742 Filed 11-23-22; 8:45 am]

BILLING CODE 9111-74-P